DEPARTMENT OF COMMERCE

International Trade Administration

[A-533-824]

Polyethylene Terephthalate Film, Sheet, and Strip From India: Preliminary Results and Partial Rescission of Antidumping Duty Administrative Review; 2017-2018

AGENCY: Enforcement and Compliance, International Trade Administration, U.S. Department of Commerce.

SUMMARY: The Department of Commerce (Commerce) preliminarily finds that exporters of polyethylene terephthalate film, sheet, and strip (PET film) from India sold subject merchandise below normal value. Interested parties are invited to comment on these preliminary results.

DATES: Applicable September 12, 2019.

FOR FURTHER INFORMATION CONTACT: Jacqueline Arrowsmith at (202) 482-5255; AD/CVD Operations, Office VII, Enforcement and Compliance, International Trade Administration, U.S. Department of Commerce, 1401 Constitution Avenue NW, Washington, DC 20230.

SUPPLEMENTARY INFORMATION:

Background

On July 3, 2018, Commerce published in the Federal Register a notice of opportunity to request an administrative review of the antidumping duty Order on PET film from India, for the period July 1, 2017 through June 30, 2018.¹ In accordance with section 751(a)(1) of the Tariff Act of 1930, as amended (the Act) and 19 CFR 351.213(b)(1), in July 2018, we received requests for reviews of the following companies: Ester Industries Limited (Ester); Garware Polyester Ltd. (Garware); MTZ Polyesters Ltd. (MTZ); Polyplex Corporation Ltd. (Polyplex); SRF Limited of India (SRF); Jindal Poly Films Ltd. (India) (Jindal); Uflex Ltd. (Uflex); and Vacmet India Limited (Vacmet).²

¹ See Antidumping or Countervailing Duty Order, Finding or Suspended Investigation; Opportunity to Request Administrative Review, 83 FR 31121 (July 3, 2018); see also See Notice of Amended Final Antidumping Duty Determination of Sales at Less Than Fair Value and Antidumping Duty Order: Polyethylene Film, Sheet, and Strip from India 67 FR 44176 (July 1, 2002) (Order).

² See Petitioners' Letter, “Polyethylene Terephthalate (PET) Film, Sheet, and Strip from India: Request for Antidumping Duty Administrative Review,” dated July 31, 2018; see also Polyplex USA LLC's Letter, “Polyethylene Terephthalate (PET) Film, Sheet, and Strip from India: Request for Antidumping Duty Administrative Review,” dated July 27, 2018; Jindal's Letter, “Polyethylene Terephthalate (PET) Film, Sheet, and Strip from India: Request for Administrative Review,” dated July 30, 2018; and SRF Limited's Letter, “Polyethylene Terephthalate (PET) Film from India: Requests for Antidumping Admin Review,” dated July 30, 2018.

Subsequently, on September 10, 2018, in accordance with 19 CFR 351.221(b)(1), Commerce published a notice of initiation of an administrative review of the antidumping duty order on PET film from India.³

³ See Initiation of Antidumping and Countervailing Duty Administrative Reviews, 83 FR 45596 (September 10, 2018) (Initiation Notice).

On September 25, 2018, we released U.S. Customs and Border Protection (CBP) import data to eligible parties under the Administrative Protective Order and invited interested parties to submit comments with respect to the selection of respondents for individual examination.⁴ On November 1, 2018, we released the CBP import data again for Jindal to have the opportunity to submit comments, since it did not receive its APO until after the original deadline for comments had passed.⁵

⁴ See Memorandum, “Administrative Review of the Countervailing Duty Order on Polyethylene Terephthalate Film, Sheet, and Strip (PET) Film from India: Release of U.S. Customs Entry Data for Respondent Selection; 2017-2018,” dated September 25, 2018 (September 2018 Import Data Memo). The “Countervailing Duty Order” in the title is an error. This is the Import Data for the antidumping duty administrative review as indicated by the case number (A-533-824) in the upper right-hand corner.

⁵ See Memorandum, “Administrative Review of the Countervailing Duty Order on Polyethylene Terephthalate Film, Sheet, and Strip Film from India: Release of U.S. Customs Entry Data for Respondent Selection; 2017-2018,” dated November 1, 2018 (November 2018 Import Data Memo). The “Countervailing Duty Order” in the title is an error. This is the Import Data for the antidumping duty administrative review as indicated by the case number (A-533-824) in the upper right-hand corner.

On December 12, 2018, Commerce determined to limit the number of companies subject to individual examination in this administrative review, and selected Jindal Poly Films Ltd. (India) (Jindal) and SRF Limited of India (SRF) as mandatory respondents.⁶

⁶ See Memorandum, “Administrative Review of the Antidumping Duty Order on Polyethylene Terephthalate Film, Sheet, and Strip from India: Selection of Respondents for Individual Examination,” dated December 12, 2018 (Respondent Selection Memorandum). SRF Limited of India and SRF limited are the same company.

We issued our initial questionnaires to Jindal and SRF on March 14, 2019. The deadline for withdrawal requests was December 9, 2018.⁷

⁷ See 19 CFR 351.213(d)(1).

On January 28, 2019, Commerce issued a memorandum tolling all deadlines for this administrative review by 40 days.⁸ On May 8, 2019, in accordance with section 751(a)(3)(A) of the Act, and 19 CFR 351.213(h)(2), Commerce extended the due date for the preliminary results by an additional 65 days, from May 13, 2019, to July 16, 2019.⁹ On July 5, 2019, in accordance with section 751(a)(3)(A) of the Act and 19 CFR 351.213(h)(2), Commerce extended the due date for the preliminary results by an additional 52 days. The current deadline is September 6, 2019.¹⁰

⁸ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁹ See Memorandum “Polyethylene Terephthalate Film, Sheet and Strip from India: Extension of Deadline for Preliminary Results of Antidumping Duty Administrative Review” dated May 8, 2019.

¹⁰ See Memorandum, “Polyethylene Terephthalate Film, Sheet, and Strip from India: Extension of Deadline for Preliminary Results of Antidumping Duty Administrative Review (2017-2018),” dated July 5, 2019.

Scope of the Order

The merchandise subject to the Order is PET film and is currently classifiable in the Harmonized Tariff Schedule of the United States (HTSUS) under item number 3920.62.00.90. A full description of the scope of the Order is contained in the accompanying Preliminary Decision Memorandum.¹¹

¹¹ See Memorandum, “Decision Memorandum for the Preliminary Results and Partial Rescission of Antidumping Duty Administrative Review: Polyethylene Terephthalate Film, Sheet, and Strip from India; 2017-2018,” dated concurrently with, and hereby adopted, by this notice (Preliminary Decision Memorandum) at 2-3.

Partial Rescission of Administrative Review

Commerce initiated a review of eight companies in this proceeding.¹² We are rescinding this administrative review with respect to MTZ and Uflex, pursuant to 19 CFR 351.213(d)(1), because all review requests of these companies were timely withdrawn.¹³ Accordingly, the companies that remain subject to the instant review are: Ester; Garware; Jindal; Polyplex; SRF; and Vacmet.

¹² See Initiation Notice.

¹³ See Preliminary Decision Memorandum at 4.

Companies Not Selected for Individual Examination

Based upon the guidance provided in section 735(c)(5) of the Tariff Act of 1930, as amended (the Act), we have preliminarily assigned to those companies not selected for individual examination the rate calculated for Jindal in this administrative review. Because SRF's preliminary rate is de minimis, we are not including it in the calculation for companies not selected for individual examination.¹⁴

¹⁴ See the Preliminary Decision Memorandum.

Methodology

Commerce is conducting this review in accordance with section 751(a)(2) of the Act. Export price is calculated in accordance with section 772 of the Act. Normal value is calculated in accordance with section 773 of the Act.

For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov and is available to all parties in the Central Records Unit in Room B8024 of the main Commerce building. In addition, a complete version of the Decision Memorandum can be accessed directly on the internet at http://enforcement.trade.gov/frn/index.html. The signed and electronic versions of the Preliminary Decision Memorandum are identical in content.

Preliminary Results of Review

As a result of this review, we preliminarily determine the following weighted-average dumping margins for the period July 1, 2017, through June 30, 2018.

Manufacturer/exporter | Weighted- average margin (percent)
Jindal Poly Films Ltd. (India) | 6.55
SRF Limited of India | 0.00
Ester Industries Limited | 6.55
Garware Polyester Ltd | 6.55
Polyplex Corporation Ltd | 6.55
Vacmet India Limited | 6.55

Disclosure and Public Comment

We intend to disclose the calculations performed to parties in this proceeding within five days after public announcement of the preliminary results in accordance with 19 CFR 351.224(b). Pursuant to 19 CFR 351.309(c), interested parties may submit case briefs not later than 30 days after the date of publication of this notice. Rebuttal briefs, limited to issues raised in the case briefs, may be filed not later than five days after the date for filing case briefs.¹⁵ Parties who submit case briefs or rebuttal briefs in this proceeding are encouraged to submit with each argument: (1) A statement of the issue; (2) a brief summary of the argument; and (3) a table of authorities.¹⁶

¹⁵ See 19 CFR 351.309(d).

¹⁶ See 19 CFR 351.303 (for general filing requirements).

Pursuant to 19 CFR 351.310(c), interested parties who wish to request a hearing, must submit a written request to the Acting Assistant Secretary for Enforcement and Compliance, filed electronically via ACCESS. An electronically filed document must be received successfully in its entirety by Commerce's electronic records system, ACCESS, by 5 p.m. Eastern Time within 30 days after the date of publication of this notice. Requests should contain: (1) The party's name, address and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

Assessment Rates

Upon issuance of the final results, Commerce shall determine, and U.S. Customs and Border Protection (CBP) shall assess, antidumping duties on all appropriate entries covered by this review. For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).¹⁷ We will instruct CBP to assess antidumping duties on all appropriate entries covered by this review when the importer-specific assessment rate calculated in the final results of this review is not zero or de minimis. If either individually-selected respondents' weighted-average dumping margin is zero or de minimis, we will instruct CBP to liquidate the appropriate entries without regard to antidumping duties. The final results of this review shall be the basis for the assessment of antidumping duties on entries of merchandise covered by this review where applicable.

¹⁷ In these preliminary results, Commerce applied the assessment rate calculation methodology adopted in Antidumping Proceedings: Calculation of the Weighted-Average Dumping Margin and Assessment Rate in Certain Antidumping Proceedings: Final Modification, 77 FR 8101 (February 14, 2012).

In accordance with Commerce's “automatic assessment” practice, for entries of subject merchandise during the POR produced by Jindal Poly Films (India) or SRF Limited of India for which each company did not know that the merchandise was destined for the United States, we will instruct CBP to liquidate those entries at the all-others rate if there is no rate for the intermediate company(ies) involved in the transaction. We intend to issue instructions to CBP 15 days after the publication date of the final results of this review.

Cash Deposit Requirements

The following deposit requirements will be effective for all shipments of PET film from India entered, or withdrawn from warehouse, for consumption on or after the date of publication of the final results of this administrative review, as provided for by section 751(a)(2)(C) of the Act: (1) The cash deposit rate for the company under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 5.71 percent.¹⁸ These cash deposit requirements, when imposed, shall remain in effect until further notice.

¹⁸ See Order.

Notification to Interested Parties

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213(h)(1).

Dated: September 6, 2019.
Christian Marsh,
Deputy Assistant Secretary for Enforcement and Compliance.

Appendix

List of Topics Discussed in the Preliminary Decision Memorandum

I. Summary

II. Background

III. Scope of the Order

IV. Partial Rescission of Administrative Review

V. Companies Not Selected for Individual Examination

VI. Comparisons to Normal Value

VII. Date of Sale

VIII. Export Price and Constructed Export Price

IX. Normal Value

X. Currency Conversion

XI. Recommendation

[FR Doc. 2019-19796 Filed 9-11-19; 8:45 am]

BILLING CODE 3510-DS-P